FEDERAL COMMUNICATIONS COMMISSION

47 CFR Part 1

[WC Docket No. 17-84; WT Docket No. 17-79, FCC 18-111; FRS 17035]

Accelerating Wireline and Wireless Broadband Deployment by Removing Barriers to Infrastructure Investment

AGENCY: Federal Communications Commission.

ACTION: Correcting amendment.

SUMMARY: Revisions to certain of the Federal Communications Commission's pole attachment rules were published in the Federal Register on September 14, 2018. However, that document incorrectly listed a cross-reference in one section of the Commission's rules, and this document corrects those final regulations.

DATES: Effective October 9, 2020.

FOR FURTHER INFORMATION CONTACT: Wireline Competition Bureau, Competition Policy Division, Michael Ray, at (202) 418-0357, michael.ray@fcc.gov.

SUPPLEMENTARY INFORMATION: The FCC published a rule in the September 14, 2018 edition of the Federal Register at 83 FR 46812 entitled “Accelerating Wireline and Wireless Broadband Deployment by Removing Barriers to Infrastructure Investment.” That rule contained an error in a cross-reference in § 1.1413(b). The FCC is publishing this correcting amendment to fix the cross-reference to prevent any confusion among the regulated community and the general public.

List of Subjects in 47 CFR Part 1

Administrative practice and procedure, Communications common carriers, Pole attachment complaint procedures, Reporting and recordkeeping requirements, Telecommunications.

For the reasons set forth in the preamble, the FCC amends 47 CFR part 1 as follows:

PART 1—PRACTICE AND PROCEDURE

1. The authority for part 1 continues to read as follows:

Authority: 47 U.S.C. chs. 2, 5, 9, 13; 28 U.S.C. 2461, unless otherwise noted.

2. Amend § 1.1413 by revising paragraph (b) to read as follows:

§ 1.1413 Complaints by incumbent local exchange carriers.

* * * * *

(b) In complaint proceedings challenging utility pole attachment rates, terms, and conditions for pole attachment contracts entered into or renewed after the effective date of this section, there is a presumption that an incumbent local exchange carrier (or an association of incumbent local exchange carriers) is similarly situated to an attacher that is a telecommunications carrier (as defined in 47 U.S.C. 251(a)(5)) or a cable television system providing telecommunications services for purposes of obtaining comparable rates, terms, or conditions. In such complaint proceedings challenging pole attachment rates, there is a presumption that incumbent local exchange carriers (or an association of incumbent local exchange carriers) may be charged no higher than the rate determined in accordance with § 1.1406(d)(2). A utility can rebut either or both of the two presumptions in this paragraph (b) with clear and convincing evidence that the incumbent local exchange carrier receives benefits under its pole attachment agreement with a utility that materially advantages the incumbent local exchange carrier over other telecommunications carriers or cable television systems providing telecommunications services on the same poles.

Federal Communications Commission.
Marlene Dortch,
Secretary.

[FR Doc. 2020-19686 Filed 10-8-20; 8:45 am]

BILLING CODE 6712-01-P